STATE JUSTICE INSTITUTE

SJI Board of Directors Meeting, Notice

AGENCY: State Justice Institute.

ACTION: Notice of meeting.

SUMMARY: The SJI Board of Directors will be meeting on Monday, June 18, 2012 at 1:00 p.m. The meeting will be held at the Westin Hotel in Seattle, Washington. The purpose of this meeting is to consider grant applications for the 3rd quarter of FY 2012, and other business. All portions of this meeting are open to the public.

ADDRESSES: Westin Hotel, 1900 5th Ave., Seattle, WA 98101, 206-728-1000.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2012-13158 Filed 5-30-12; 8:45 am]

BILLING CODE P